DEPARTMENT OF DEFENSE

Department of the Army

Performance Review Boards Membership

AGENCY: Department of the Army, DoD.

ACTION: Notice.

SUMMARY: Notice is given of the names of members of the Performance Review Boards for the Department of the Army.

EFFECTIVE DATE: September 8, 2000.

FOR FURTHER INFORMATION CONTACT: Nancy Quick, U.S. Army Senior Executive Service Office, Assistant Secretary of the Army (Manpower and Reserve Affairs), 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the North Atlantic Treaty Organization (NATO) are:

1. MG Joseph G. Garrett III, Principal Director, EURNATO Policy, Office of the Assistant Secretary of Defense, International Security Affairs (OASD/ISA);

2. Mr. Alfred Volkman, Director, Office of the Under Secretary of Defense (Acquisition, Technology and Logistics), International Programs;

3. Mr. Leo G. Michel, Director, NATO Policy;

4. Mr. John A. Berry, Director, Regional Affairs, ,Office of the Assistant Secretary of Defense, International Security Affairs (OASD/ISA); and

5. Mr. Brendt McConnell, Principal Deputy Secretary of Defense, International Security Affairs (ISA).

Gregory D. Showalter,
Army Federal Register Liaison Officer.

[FR Doc. 00-23755 Filed 9-14-00; 8:45 am]

BILLING CODE 3710-08-P